FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 29, 2013.

A. Federal Reserve Bank of Dallas (E. Ann Worthy, Vice President) 2200 North Pearl Street, Dallas, Texas 75201-2272:

1. James A. Hopson, Delhi, Louisiana; W. Briggs Hopson, W. Briggs Hopson, III, James W. Hopson, Mary K. Ricks, all of Vicksburg, Mississippi; Stacey Hopson Burgess, Haltom City, Texas; David Doughty, Suzette Hopson Doughty, James O. Doughty, and Mary C. Doughty, all of Rayville, Louisiana; collectively as a group acting in concert, to retain voting shares of Delhi Bancshares, Inc., and thereby indirectly retain voting shares of Guaranty Bank & Trust Company of Delhi, Louisiana, both in Delhi, Louisiana.

Board of Governors of the Federal Reserve System, August 9, 2013.
Margaret McCloskey Shanks,
Deputy Secretary of the Board.

[FR Doc. 2013-19700 Filed 8-13-13; 8:45 am]

BILLING CODE 6210-01-P